DEPARTMENT OF STATE

Bureau of Educational and Cultural Affairs

[Public Notice: 4613]

30-Day Notice of Proposed Information Collection: Recordkeeping, Reporting and Data Collection Requirements Under 22 CFR Part 62—the Exchange Visitor Program, Student and Exchange Visitor Information System (SEVIS); OMB #1405-0147

AGENCY: Department of State.

ACTION: Notice.

SUMMARY: The Department of State has submitted the following information collection request to the Office of Management and Budget (OMB) for approval in accordance with the Paperwork Reduction Act of 1995. Comments should be submitted to OMB within 30 days of the publication of this notice.

The following summarizes the information collection proposal submitted to OMB:

Type of Request: Revision and Extension of a Currently Approved Collection.

Originating Office: Bureau of Educational and Cultural Affairs.

Title of Information Collection: Recordkeeping, Reporting, and Data Collection Requirements Under 22 CFR 62—the Exchange Visitor Program, Student and Exchange Visitor Information System (SEVIS).

Frequency: Continuous.

Form Number: N/A.

Respondents: Designated program sponsors, potential sponsors, exchange visitors, foreign governments, and U.S. medical schools.

Estimated Number of Respondents: 190,205 respondents.

Average Hours Per Response: 5.5 hours. (The time burden per response ranges from 5 minutes to 20 hours depending on the requirement.)

Total Estimated Burden: 11,050,170 hours.

Public comments are being solicited to permit the agency to:

• Evaluate whether the proposed collection of information is necessary for the proper performance of the functions of the agency, including whether the information will have practical utility.

• Evaluate the accuracy of the agency's estimate of the burden of the collection, including the validity of the methodology and assumptions used.

• Enhance the quality, utility, and clarity of the information to be collected.

• Minimize the reporting burden on those who are to respond, including through the use of automated collection techniques or other forms of technology.

FOR FURTHER INFORMATION CONTACT: Copies of the proposed information collection and supporting documents may be obtained from Mr. Stanley Colvin, 301 4th Street, SW., Room 734, Washington, DC 20547, or at (202) 401-9810. Public comments and questions should be directed to the State Department Desk Officer, Office of Information and Regulatory Affairs, Office of Management and Budget (OMB), Washington, DC 20530, who may be reached on (202) 395-7860.

Dated: August 8, 2003.
Patricia S. Harrison,
Assistant Secretary, Bureau of Educational and Cultural Affairs, Department of State.

[FR Doc. 04-2489 Filed 2-4-04; 8:45 am]

BILLING CODE 4710-05-P